DEPARTMENT OF VETERANS AFFAIRS

[OMB Control No. 2900-0465]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 28, 2000.

FOR FURTHER INFORMATION OR A COPY OF THE SUBMISSION CONTACT: Denise McLamb, Information Management Service (045A4), Department of Veterans Affairs, 810 Vermont Avenue NW., Washington, DC 20420, (202) 273-8030 or FAX (202) 273-5981. Please refer to “OMB Control No. 2900-0465.”

SUPPLEMENTAL INFORMATION: Title: Student Verification of Enrollment, VA Form 22-8979.

OMB Control Number: 2900-0465.

Type of Review: Extension of a currently approved collection.

Abstract: The form is used by students in certifying attendance and continued enrollment in courses leading to a standard college degree or in non-college degree programs. VA uses the information to determine the student's continued entitlement to benefits. VA Form 22-8979 serves as proof of continued enrollment. It obtains certification of actual attendance by the student and verification of that student's continued enrollment before VA release payment.

An agency may not conduct or sponsor, and a person is not required to respond to a collection of information unless it displays a currently valid OMB control number. The Federal Register Notice with a 60-day comment period soliciting comments on this collection of information was published on August 17, 2000 at page 50276.

Affected Public: Individuals or households.

Estimated Annual Burden: 146,000 hours.

Estimated Average Burden Per Respondent: 4 minutes.

Frequency of Response: Annually.

Estimated Annual Responses: 365,000.

Estimated Number of Respondents: 2,190,000.

Send comments and recommendations concerning any aspect of the information collection to VA's OMB Desk Officer, OMB Human Resources and Housing Branch, New Executive Office Building, Room 10235, Washington, DC 20503 (202) 395-7316. Please refer to “OMB Control No. 2900-0465” in any correspondence.

Dated: November 2, 2000.
By direction of the Secretary:
Donald L. Neilson,
Director, Information Management Service.

[FR Doc. 00-30299 Filed 11-27-00; 8:45 am]

BILLING CODE 8320-01-P